DEPARTMENT OF COMMERCE

International Trade Administration

[C-570-980]

Crystalline Silicon Photovoltaic Cells, Whether or Not Assembled Into Modules, From the People's Republic of China: Alignment of Final Countervailing Duty Determination With Final Antidumping Duty Determination

AGENCY: Import Administration, International Trade Administration, Department of Commerce.

SUMMARY: The Department of Commerce (the Department) is aligning the final determination in this countervailing duty (CVD) investigation of crystalline silicon photovoltaic cells, whether or not assembled into modules (solar cells) from the People's Republic of China (PRC) with the final determination in the companion antidumping duty (AD) investigation.

DATES: Effective Date: April 30, 2012.

FOR FURTHER INFORMATION CONTACT: Gene Calvert, Jun Jack Zhao, or Emily Halle, AD/CVD Operations, Office 6, Import Administration, U.S. Department of Commerce, Room 7866, 14th Street and Constitution Avenue NW., Washington, DC 20230; telephone: (202) 482-3586, (202) 482-1396, or (202) 482-0176, respectively.

SUPPLEMENTARY INFORMATION:

Background

On November 8, 2011, the Department initiated the AD and CVD investigations of solar cells from the PRC.¹ On March 26, 2012, the Department published the preliminary affirmative CVD determination pertaining to solar cells from the PRC.² On March 27, 2012, the petitioner, SolarWorld Industries America, Inc., timely requested alignment of the deadline for the final CVD determination with the deadline for the final determination in the companion AD investigation of solar cells from the PRC, in accordance with section 705(a)(1) of the Tariff Act of 1930, as amended (the Act), and 19 CFR 351.210(b)(4)(i) and 210(i).

¹ See Crystalline Silicon Photovoltaic Cells, Whether or Not Assembled Into Modules, From the People's Republic of China: Initiation of Countervailing Duty Investigation, 76 FR 70966 (November 16, 2011), and Crystalline Silicon Photovoltaic Cells, Whether or Not Assembled Into Modules, From the People's Republic of China: Initiation of Antidumping Duty Investigation, 76 FR 70960 (November 16, 2011).

² See Crystalline Silicon Photovoltaic Cells, Whether or Not Assembled Into Modules, from the People's Republic of China: Preliminary Affirmative Countervailing Duty Determination, 77 FR 17439 (March 26, 2012).

Because the AD and CVD investigations were initiated simultaneously and involve the same class or kind of merchandise from the same country, we are aligning the deadline for the final CVD determination of solar cells from the PRC with the deadline for the final determination in the companion AD investigation of solar cells from the PRC, in accordance with section 705(a)(1) of the Act and 19 CFR 351.210(b)(4)(i). The final CVD determination will be issued on the same date as the final AD determination, which is currently scheduled to be issued no later than July 30, 2012, unless postponed.

This notice is issued and published pursuant to section 705(a)(1) of the Act.

Dated: April 24, 2012.
Paul Piquado,
Assistant Secretary for Import Administration.

[FR Doc. 2012-10352 Filed 4-27-12; 8:45 am]

BILLING CODE 3510-DS-P